DEPARTMENT OF HEALTH AND HUMAN SERVICES

Centers for Disease Control and Prevention

[Docket No. CDC-2018-0099]

Draft Guideline: Infection Control in Healthcare Personnel: Infrastructure and Routine Practices for Occupational Infection Prevention and Control Services

AGENCY: Centers for Disease Control and Prevention (CDC), Department of Health and Human Services (DHHS).

ACTION: Notice with comment period.

SUMMARY: The Centers for Disease Control and Prevention (CDC), in the Department of Health and Human Services (DHHS), announces the opening of a docket to obtain comment on the Draft Guideline: Infection Control in Healthcare Personnel: Infrastructure and Routine Practices for Occupational Infection Prevention and Control Services (Draft Guideline). The Draft Guideline is an update of two sections of the Guideline for Infection Control in Healthcare Personnel, 1998: C. Infection Control Objectives for a Personnel Health Service and D. Elements of a Personnel Health Service for Infection Control. The updated recommendations in the Draft Guideline are intended to facilitate the provision of occupational infection prevention and control services to healthcare personnel and to prevent transmission of infections between healthcare personnel and others.

DATES: Written comments must be received on or before December 14, 2018.

ADDRESSES: You may submit comments, identified by Docket No. CDC-2018-0099, by any of the following methods:

• Federal eRulemaking Portal: http://www.regulations.gov. Follow the instructions for submitting comments.

• Mail: Division of Healthcare Quality Promotion, National Center for Emerging and Zoonotic Infectious Diseases, Centers for Disease Control and Prevention, Attn: Docket No. CDC-2018-0099, HICPAC Secretariat, 1600 Clifton Road NE, Mailstop A07, Atlanta, Georgia 30329.

Instructions: Submissions via http://regulations.gov are preferred. All submissions received must include the agency name and Docket Number. All relevant comments received will be posted without change to http://regulations.gov, including any personal information provided. For access to the docket to read background documents or comments received, go to http://www.regulations.gov.

FOR FURTHER INFORMATION CONTACT: Kendra Cox, Division of Healthcare Quality Promotion, National Center for Emerging and Zoonotic Infectious Diseases, Centers for Disease Control and Prevention, 1600 Clifton Road NE, Mailstop A-07, Atlanta, Georgia 30329; Telephone: (404) 639-4000.

SUPPLEMENTARY INFORMATION:

Public Participation

Interested persons or organizations are invited to participate by submitting written views, recommendations, and data.

Please note that comments received, including attachments and other supporting materials, are part of the public record and are subject to public disclosure. Comments will be posted on https://www.regulations.gov. Therefore, do not include any information in your comments or supporting materials that you consider confidential or inappropriate for public disclosure. If you include your name, contact information, or other information that identifies you in the body of your comments, that information will be on public display. CDC will review all submissions and may choose (but is not required) to redact, or withhold, submissions containing private or proprietary information such as Social Security numbers, medical information, inappropriate language, or duplicate/near-duplicate examples of a mass-mail campaign. CDC will carefully consider all comments timely submitted in preparation of the final guideline Infection Control in Healthcare Personnel: Infrastructure and Routine Practices for Occupational Infection Prevention and Control Services and may revise the final document as appropriate.

Background

The Draft Guideline, located in the “Supporting & Related Material” tab of the docket, updates two sections from the 1998 Guideline: C. Infection Control Objectives for a Personnel Health Service and D. Elements of a Personnel Health Service for Infection Control. Those sections described the infrastructure and routine practices of Occupational Health Services for providing occupational infection prevention and control services to healthcare personnel.

Once finalized, the Draft Guideline is intended for use by the leaders and staff of Occupational Health Services and the administrators and leaders of healthcare organizations in order to facilitate the provision of occupational infection prevention and control services to healthcare personnel.

Since 2015, the Healthcare Infection Control Practices Advisory Committee (HICPAC) has worked with national partners, academicians, public health professionals, healthcare providers, and other partners to develop this Draft Guideline as a recommendation for CDC to update sections of the 1998 Guideline. HICPAC includes representatives from public health, infectious diseases, regulatory and other federal agencies, professional societies, and other stakeholders.

The draft recommendations in this Draft Guideline are informed by a systematic literature review of articles published in peer-reviewed journals or repositories of systematic reviews; and a review of occupational infection prevention and control guidelines, regulations, and standards. This Draft Guideline is not, and once finalized will not be, a federal rule or regulation; instead its purpose, as discussed above, will be to facilitate the provision of occupational prevention and control services to healthcare personnel.

Dated: October 10, 2018.
Sandra Cashman,
Executive Secretary, Centers for Disease Control and Prevention.

[FR Doc. 2018-22377 Filed 10-12-18; 8:45 am]

BILLING CODE 4163-18-P